SECURITIES AND EXCHANGE COMMISSION

[File No. 500-1]

In the Matter of QSGI Inc.; Order of Suspension of Trading

August 28, 2014.

It appears to the Securities and Exchange Commission (“Commission”) that there is a lack of current and accurate information concerning the securities of QSGI Inc. (“QSGI”) because QSGI has not filed any periodic reports for any reporting period subsequent to June 30, 2011. QSGI is a Florida corporation with its principal place of business listed as West Palm Beach, Florida. Its stock is quoted on OTC Link, operated by OTC Markets Group Inc., under the ticker: QSGI. The Commission is of the opinion that the public interest and the protection of investors require a suspension of trading in the securities of QSGI.

Therefore, it is ordered, pursuant to Section 12(k) of the Securities Exchange Act of 1934, that trading in the securities of the above-listed company is suspended for the period from 9:30 a.m. EDT, August 28, 2014, through 11:59 p.m. EDT, on September 11, 2014.

By the Commission.
Jill M. Peterson,
Assistant Secretary.

[FR Doc. 2014-20889 Filed 8-28-14; 4:15 pm]

BILLING CODE 8011-01-P